NATIONAL TRANSPORTATION SAFETY BOARD

Privacy Act of 1974 System of Records Notice

AGENCY: National Transportation Safety Board (NTSB).

ACTION: Notice to establish a new Privacy Act System of Records.

SUMMARY: The NTSB is notifying the public about a new Privacy Act System of Records for its Medical Investigation Catalog System (MEDICS). MEDICS maintains personally identifiable health information that the NTSB collects in electronic form about individuals involved in transportation accidents and incidents that the NTSB investigates.

DATES: This action will be effective without further notice 30 days from the date of publication in the Federal Register, unless the NTSB receives comments that result in a contrary determination.

ADDRESSES: You may send written comments using any of the following methods:

1. Government-wide rulemaking Web site: Go to http://www.regulations.gov and follow the instructions for sending your comments electronically.

2. Mail: Mail comments concerning this notice to Melba D. Moye, CIO-40, National Transportation Safety Board, 490 L'Enfant Plaza SW., Washington, DC 20594-2000.

3. Virtual Fax: (202) 558-4290, Attention: Melba D. Moye.

4. Hand Delivery: 6th Floor, National Transportation Safety Board, CIO-40, 490 L'Enfant Plaza SW., Washington, DC, between 9 a.m. and 4:30 p.m., Monday through Friday, except Federal holidays.

All comments received will be available for public inspection at the above address.

FOR FURTHER INFORMATION CONTACT: Melba D. Moye, Office of Chief Information Officer, Records Management Division, (202) 314-6551.

PRIVACY ACT SYSTEM OF RECORDS:

Medical Investigation Catalog System (MEDICS) NTSB-33

SYSTEM NAME:

Medical Investigation Catalog System (MEDICS).

SYSTEM LOCATION:

National Transportation Safety Board, Office of Research and Engineering, 490 L'Enfant Plaza SW., Washington, DC 20594.

CATEGORIES OF INDIVIDUALS COVERED BY THE SYSTEM:

MEDICS records contain personally identifiable information (PII), which may include health information as defined below, of individuals such as operators, crewmembers, occupants, and bystanders involved in transportation accidents or incidents investigated or studied by the NTSB, as well as related PII of individuals responsible for providing their medical care.

CATEGORIES OF RECORDS IN THE SYSTEM:

MEDICS contains electronically recorded PII, including health information, which means any information that—

(A) Is created or received by a health care provider, health plan, public health authority, employer, life insurer, school or university, or health care clearinghouse; and

(B) Relates to the past, present, or future physical or mental health or condition of an individual; the provision of health care to an individual; or the past, present, or future payment for the provision of health care to an individual.

MEDICS may also contain electronically recorded health information, as described by paragraph B above, from individuals, families, or other entities, whether created or received by or from one of the entities described in paragraph A above. For the NTSB's purposes, this includes any record of medical conditions or care, for example, notes from a health care provider; medical certification documentation such as Federal Aviation Administration blue ribbon files and commercial driver's license long forms; results of any drug or toxicology tests; radiology images; autopsy reports; laboratory reports; prehospital patient care reports; ambulance run sheets or patient care reports; pharmacy records; billing and insurance information; results from a search of a prescription monitoring program; and any other official record related to an individual's health care.

AUTHORITY FOR MAINTENANCE OF THE SYSTEM:

Title 49 United States Code (U.S.C.) Chapter 11 and Title 49 Code of Federal Regulations (CFR) Parts 802 and 831.

PURPOSE(S):

The purpose of MEDICS is to securely receive and store health information records. The NTSB is an independent federal agency responsible for determining the probable cause of transportation accidents or incidents, conducting transportation safety research, promoting transportation safety, and assisting victims of transportation accidents and their families. In support of the agency's statutory mandate, NTSB investigators, medical officers, and staff routinely review health information records to assess the facts and circumstances of an accident or incident.

ROUTINE USES OF RECORDS MAINTAINED IN THE SYSTEM, INCLUDING CATEGORIES OF USES, AND THE PURPOSES OF SUCH USES:

In addition to the disclosures permitted under the Privacy Act, 5 U.S.C. 552a(b), and described in the NTSB's Appendix A: General Routine Uses Applicable to All Systems of Records (currently published at 77 Federal Register 62060, 62087 on October 11, 2012), the NTSB may disclose information contained in this system of records without the consent of the subject individual if the disclosure is compatible with the purpose for which the record was collected under the following routine uses:

1. Disclosure to NTSB employees in their official capacity and who have a need to know in the course of an ongoing official NTSB activity, including, but not limited to the following duties:

a. Providing assistance to victims of transportation accidents and their families;

b. performing analysis as part of any special study or investigation about transportation safety, including avoiding personal injury; and

c. examining techniques and methods of investigation and periodically publishing recommended procedures for accident and incident investigations.

2. Disclosure to participants in NTSB investigations, with suitable technical expertise as determined by the NTSB, to assist in establishing the facts and circumstances of investigations. Participants may include suitable technical representatives from operators or manufacturers involved in accidents or incidents as well as representatives from federal, state, and local agencies;

3. Disclosure to medical consultants or contractors as appropriate to enable consultation related to the investigation;

4. Disclosure when necessary to the public of as part of the evidentiary record or as part of an agency report in an investigation or study pursuant to 49 U.S.C. Chapter 11;

5. Disclosure of autopsy and toxicology reports to the US Department of Transportation, the US Coast Guard, and other federal departments or agencies; and

6. Disclosure to an agency, organization, or individual for the purpose of performing audit or oversight operations as authorized by law, but only such information as is necessary and relevant to such audit or oversight function.

DISCLOSURE TO CONSUMER REPORTING AGENCIES:

None.

POLICIES AND PRACTICES FOR STORING, RETRIEVING, ACCESSING, RETAINING, AND DISPOSING OF RECORDS IN THE SYSTEM STORAGE:

These records are maintained electronically in a database. Only NTSB personnel may access the health information of individuals whose medical conditions or medical care may be relevant to determining the probable cause of an accident or incident, to evaluate human performance or survival factors issues arising during an accident or incident investigation, as part of the victim and family assistance process following an accident or incident, to carry out special studies and investigations about transportation safety (including avoiding personal injury), or to examine techniques and methods of accident or incident investigation, and periodically publish recommended procedures for accident or incident investigations.

RETRIEVABILITY:

The MEDICS system is searchable by NTSB accident or incident number; accident city; accident state; accident country; and individual name, age, and date of birth.

SAFEGUARDS:

The computerized records contained within MEDICS are maintained in a secure, password-protected computer system. Access to and use of these records are limited to those persons whose official duties require such access. This system conforms to all applicable federal laws and regulations, as well as NTSB policies and standards, as they relate to information security and data privacy. In this regard, the following laws and regulations may apply: The Privacy Act of 1974; the Federal Information Security Management Act of 2002; the Computer Fraud and Abuse Act of 1986; the Health Insurance Portability and Accountability Act of 1996 (HIPAA); the E-Government Act of 2002; and corresponding regulations implementing these statutes. The NTSB is a public health authority for purposes of HIPAA, 79 Federal Register 28970, May 20, 2014.

RETENTION AND DISPOSAL:

The NTSB will maintain all relevant and necessary PII records, including health information, until a record disposal schedule is approved by the National Archives and Records Administration.

SYSTEM MANAGER(S) AND ADDRESS:

Chief Medical Officer, Office of Research and Engineering, National Transportation Safety Board, 490 L'Enfant Plaza SW., Washington, DC 20594.

NOTIFICATION PROCEDURE:

Individuals wishing to inquire about whether this system of records contains information about them may contact the Chief, Records Management Division, National Transportation Safety Board, 490 L'Enfant Plaza SW., Washington, DC 20594. Individuals must comply with NTSB regulations regarding the Privacy Act, 49 CFR Part 802, and must furnish the following information for their records to be located and identified:

1. Full name(s)

2. Date of birth

3. If known, the date and location of the accident, incident, or occurrence, or the NTSB investigation identifier(s) for the investigation(s) in which the NTSB created or obtained the record

4. Signature

RECORD ACCESS PROCEDURE:

Same as the Notification Procedure.

CONTESTING RECORD PROCEDURE:

a. Individuals wishing to amend their records should contact the agency office identified in the Notification Procedure section and furnish such identifying information as required by the agency to locate and identify the records to be amended.

b. Individuals seeking amendment of their records must also follow the agency's Privacy Act regulations, 49 CFR Part 802.

c. Where the requested amendment implicates information provided by a third-party source, the agency will refer the individual to the source from which the agency obtained the information. The NTSB is not authorized to amend records from non-agency sources. Additionally, the NTSB is not authorized to direct a non-agency source to change or alter records.

d. Because medical practitioners may provide differing but equally valid medical judgments and opinions when making medical evaluations of an individual's health status, review of requests from individuals seeking amendment of their medical records, beyond administrative correction such as association of a medical record with an incorrect individual, may be limited to consideration of including the differing opinion in the record rather than attempting to determine whether the original opinion is accurate.

RECORD SOURCE CATEGORIES:

Health information is obtained from health care providers, insurers, employers, individuals, and family members of accident victims. The NTSB may also obtain health information from other federal, state, and local agencies that perform criminal, civil, or accident investigations or regulatory oversight.

EXEMPTIONS CLAIMED FOR THE SYSTEM:

None.

Dated: May 15, 2017.
LaSean R. McCray,
Assistant Federal Register Liaison Officer.

[FR Doc. 2017-10220 Filed 5-18-17; 8:45 am]

BILLING CODE 7533-01-P